DEPARTMENT OF HEALTH AND HUMAN SERVICES

Centers for Disease Control and Prevention

[60Day-09-09AR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

STD Surveillance Network (SSuN)—New—Division of STD Prevention (DSTDP); National Center for HIV/AIDS, Viral Hepatitis, STD, and TB Prevention (NCHHSTP); Centers for Disease Control and Prevention (CDC).

Backgroundand Brief Description

The STD Surveillance Network (SSuN) is a group of STD clinics and health departments designed to perform active surveillance for STDs, such as, chancroid, chlamydia, gonorrhea, syphilis, hepatitis B, HIV, trichomoniasis, genital warts, human Papillomavirus, and Mycoplasma genitalium at twelve health departments and STD clinics at: Alabama State Health Department, Baltimore City Health Department, Chicago City Health Department, Colorado State Health Department, Connecticut State Health Department, Los Angeles City Health Department, Louisiana State Health Department, New York City Health Department, Philadelphia City Health Department, San Francisco City Health Department, Virginia State Health Department, and Washington State Health Department.

These twelve active sentinel surveillance sites will provide detailed information on demographic characteristics, behavioral risk factors, and clinical history of ill persons in order to identify factors that sustain the epidemic. For example, history of previous STD, number and sex of sex partners, and participation in anonymous or commercial sex alter a person's risk for acquiring disease.

The objectives of the SSuN project are: (1) To establish an integrated network of sentinel STD clinics and health departments to inform and guide national programs and policies for STD control in the U.S.; (2) to improve the capacity of national, state, and local STD programs to detect, monitor, and respond to established and emerging trends in STDs, HIV, and viral hepatitis; and (3) to identify and evaluate the effectiveness of public health interventions to reduce STD morbidity.

Information for the SSuN will be obtained from two different areas; twelve sentinel STD clinics and twelve health departments who will conduct sentinel surveillance among individuals who are diagnosed with STDs in the general population.

Health Departments and the sentinel STD clinics are funded by CDC through a cooperative agreement for participation in the SSuN active surveillance. Clinical information of the patients with a STD is routinely entered into the STD clinic databases in an electronic form. In addition to the clinical data, STD clinic counselors will include a patient interview on sexual behaviors and practices, and clinical history which will also reside in the clinic databases. Data elements of interest to the SSuN will be extracted from the clinic databases on a quarterly basis and transmitted to CDC through a secured channel. Each STD clinic will spend 2 hours to transmit the data to CDC each quarter. At CDC, data will be aggregated with data from all participating sites in a common language and formatted for analysis.

The twelve Health departments serving as the SSuN sentinel surveillance sites will interview 67 persons from the community at large each quarter. Each interview is expected to take 7 minutes per person. The survey results will also be entered into the existing information systems at each health department and sent to CDC through a secure data network on a quarterly basis.

There is no cost to the respondents other than their time.

Estimate of Annualized Burden Table
Respondent | No. of respondents | No. of responses per respondent | Average burden per response (in hours) | Total burden (in hours)
STD Surveillance Clinics | 12 | 4 | 2 | 96
STD Patients | 3216 | 1 | 7/60 | 375
Total |  |  |  | 471

Dated: February 17, 2009.
Maryam I. Daneshvar,
Acting Reports Clearance Officer, Centers for Disease Control and Prevention.

[FR Doc. E9-3647 Filed 2-19-09; 8:45 am]

BILLING CODE 4163-18-P